DEPARTMENT OF TRANSPORTATION

Federal Aviation Administration

14 CFR Part 39

[Docket No. FAA-2013-0963; Directorate Identifier 2013-CE-034-AD; Amendment 39-17663; AD 2013-23-08]

RIN 2120-AA64

Airworthiness Directives; AQUILA—Aviation by Excellence AG Airplanes

AGENCY: Federal Aviation Administration (FAA), DOT.

ACTION: Final rule; request for comments

SUMMARY: We are adopting a new airworthiness directive (AD) AQUILA—Aviation by Excellence AG Model AT01 airplanes. This AD results from mandatory continuing airworthiness information (MCAI) issued by the aviation authority of another country to identify and correct an unsafe condition on an aviation product. The MCAI describes the unsafe condition as a defective sealing of a tapped through bore hole at the inside of the fuel tank openings in combination with prolonged periods at maximum fuel level. We are issuing this AD to require actions to address the unsafe condition on these products.

DATES: This AD is effective December 30, 2013.

The Director of the Federal Register approved the incorporation by reference of a certain publication listed in the AD as of December 30, 2013.

We must receive comments on this AD by January 9, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact AQUILA Aviation GmbH, OT Schoenhagen, Flugplatz, D-14959 Trebbin, Germany; phone: +49-(0) 33731-707-0; fax: +49 (0) 33731-707-11; Internet: http://www.aquila-aviation.de/; email: maintenance@aquila-aviation.de. You may review this referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone (800) 647-5527) is in the ADDRESSES section. Comments will be available in the AD docket shortly after receipt.

FOR FURTHER INFORMATION CONTACT: Doug Rudolph, Aerospace Engineer, FAA, Small Airplane Directorate, 901 Locust, Room 301, Kansas City, Missouri 64106; telephone: (816) 329-4059; fax: (816) 329-4090; email: doug.rudolph@faa.gov.

SUPPLEMENTARY INFORMATION:

Discussion

The European Aviation Safety Agency (EASA), which is the Technical Agent for the Member States of the European Community, has issued AD No. 2013-0236, dated September 25, 2013 (referred to after this as “the MCAI”), to correct an unsafe condition for the specified products. The MCAI states:

During repair in the wing tank area it was discovered that, when the tank is filled to a maximum level, fuel can soak into the upper shell sandwich of the wings. This can be detected from damaged finishing of the upper wing shells or from yellow discoloured bonding wire insulation.

The root cause is a defective sealing of a tapped through bore hole at the inside of the fuel tank openings in combination with prolonged periods at maximum fuel level.

This condition, if not detected and corrected, could cause long-term structural degradation of the wing structure.

To address this potential unsafe condition, AQUILA issued Service Bulletin (SB)-AT01-027 providing instructions for the inspection and sealing of tapped bore holes inside both fuel tank openings.

For the reasons described above, this AD requires repetitive inspections of the wing tank area and, depending on findings, corrective actions.

You may examine the MCAI on the Internet at http://www.regulations.gov by searching for and locating it in Docket No. FAA-2013-0963.

Relevant Service Information

AQUILA Aviation GmbH issued Vorgeschrieben Technische Mitteilung SB-AT01-027, dated August 15, 2013 (English translation: Mandatory Service Bulletin SB-AT01-027, Issue A.02, dated August 15, 2013). The actions described in this service information are intended to correct the unsafe condition identified in the MCAI.

FAA's Determination and Requirements of the AD

This product has been approved by the aviation authority of another country, and is approved for operation in the United States. Pursuant to our bilateral agreement with this State of Design Authority, they have notified us of the unsafe condition described in the MCAI and service information referenced above. We are issuing this AD because we evaluated all information provided by the State of Design Authority and determined the unsafe condition exists and is likely to exist or develop on other products of the same type design.

FAA's Determination of the Effective Date

An unsafe condition exists that requires the immediate adoption of this AD. The FAA has found that the risk to the flying public justifies waiving notice and comment prior to adoption of this rule because there are no airplanes currently on the U.S. registry and thus, does not have any impact upon the public. Therefore, we find that notice and opportunity for prior public comment are unnecessary.

Comments Invited

This AD is a final rule that involves requirements affecting flight safety, and we did not precede it by notice and opportunity for public comment. We invite you to send any written relevant data, views, or arguments about this AD. Send your comments to an address listed under the ADDRESSES section. Include “Docket No. FAA-2013-0963; Directorate Identifier 2013-CE-034-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect 0 products of U.S. registry. We also estimate that it will take about 2 work-hours per product to comply with the basic requirements of this AD. The average labor rate is $85 per work-hour.

Based on these figures, we estimate the cost of this AD on U.S. operators to be $0, or $0 per product.

In addition, we estimate that any necessary follow-on actions will take about 2 work-hours and require parts costing $100, for a cost of $270 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-23-08 AQUILA—Aviation by Excellence AG: Amendment 39-17663; Docket No. FAA-2013-0963; Directorate Identifier 2013-CE-034-AD.

(a) Effective Date

This airworthiness directive (AD) becomes effective December 30, 2013.

(b) Affected ADs

None.

(c) Applicability

This AD applies to Aquila—Aviation by Excellence AG Model AT01 airplanes, serial numbers AT01-100 through AT01-299, certificated in any category.

(d) Subject

Air Transport Association of America (ATA) Code 28: Fuel.

(e) Reason

This AD was prompted by mandatory continuing airworthiness information (MCAI) originated by an aviation authority of another country to identify and correct an unsafe condition on an aviation product. The MCAI describes the unsafe condition as a defective sealing of a tapped through bore hole at the inside of the fuel tank openings in combination with prolonged periods at maximum fuel level. We are issuing this AD to detect and correct a defective sealing of a tapped through bore hole at the inside of the fuel tank openings, which if not detected and corrected, could cause long-term structural degradation of the wing structure.

(f) Actions and Compliance

Unless already done, do the following actions, as specified in paragraphs (f)(1) through (f)(6), including subparagraphs, of this AD:

Note 1 to paragraph (f) of this AD: The service information referenced in this AD contains German to English translation. The MCAI cites the English translation. The following is the English to German translation of the service information entitled: AQUILA Aviation GmbH Vorgeschrieben Technische Mitteilung SB-AT01-027, dated August 15, 2013 (English translation: AQUILA Aviation GmbH Mandatory Service Bulletin SB-AT01-027, Issue A.02, dated August 15, 2013). For paragraphs (f)(1) through (f)(6), the service information will be cited using the English translation.

(1) Within 100 hours time-in-service (TIS) after December 30, 2013 (the effective date of this AD) or 3 months after December 30, 2013 (the effective date of this AD), whichever occurs first, and repetitively thereafter at intervals not to exceed 12 months, visually inspect the left hand (LH) and right hand (RH) wing tank areas following paragraph (1) of the Actions section of AQUILA Aviation GmbH Mandatory Service Bulletin SB-AT01-027, Issue A.02, dated August 15, 2013.

(2) Concurrent with the initial inspection required in paragraph (f)(1) of this AD, seal the tapped through bore holes inside the LH and RH fuel tank openings following paragraph (2) of the Actions section of AQUILA Aviation GmbH Mandatory Service Bulletin SB-AT01-027, Issue A.02, dated August 15, 2013.

(3) If, during any subsequent inspection required in paragraph (f)(1) of this AD, a tapped through bore hole inside the LH or RH fuel tank opening is found to be improperly sealed, within the next 100 hours TIS after detecting the improper seal or 3 months after detecting the improper seal, whichever occurs first, renew the sealing of the affected bore hole following paragraph (2) of the Actions section of AQUILA Aviation GmbH Mandatory Service Bulletin SB-AT01-027, Issue A.02, dated August 15, 2013.

(4) If, during any inspection required in paragraph (f)(1) of this AD, the upper wing shells show damaged finishing in the tank areas, before further flight, contact AQUILA Aviation GmbH following paragraph (3) of the Actions section of AQUILA Aviation GmbH Mandatory Service Bulletin SB-AT01-027, Issue A.02, dated August 15, 2013, at the address identified in paragraph (i)(3) of this AD for an approved repair scheme and, accomplish the repair scheme before further flight.

(5) Accomplishment of corrective actions required in paragraph (f)(3) or (f)(4) of this AD does not constitute terminating action for the repetitive inspections required by paragraph (f)(1) of this AD.

(6) After accomplishment of the required initial inspection and sealing in paragraphs (f)(1) and (f)(2) of this AD, compliance with the requirements of this AD can be demonstrated by:

(i) Revising the approved Aircraft Maintenance Program (AMP) and standard practices (Instructions for Continued Airworthiness) on the basis of which the operator or the owner ensures the continuing airworthiness of each airplane: Incorporate the repetitive 12 calendar month visual inspection of the LH and RH wing tank areas required in paragraph (f)(1) of this AD, Actions section of AQUILA Aviation GmbH Mandatory Service Bulletin SB-AT01-027, Issue A.02, dated August 15, 2013; and

(ii) Complying with the approved AMP described in paragraph (f)(6)(i) of this AD.

(g) Other FAA AD Provisions

The following provisions also apply to this AD:

(1) Alternative Methods of Compliance (AMOCs): The Manager, Standards Office, FAA, has the authority to approve AMOCs for this AD, if requested using the procedures found in 14 CFR 39.19. Send information to ATTN: Doug Rudolph, Aerospace Engineer, FAA, Small Airplane Directorate, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No. 2013-0236, dated September 25, 2013, for related information. You may examine the MCAI on the Internet at http://www.regulations.gov by searching for and locating it in Docket No. FAA-2013-0963.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) AQUILA Aviation GmbH Vorgeschrieben Technische Mitteilung SB-AT01-027, dated August 15, 2013 (English translation: AQUILA Aviation GmbH Mandatory Service Bulletin SB-AT01-027, Issue A.02, dated August 15, 2013).

Note 2 to paragraph (i)(2)(i) of this AD: This service information contains German to English translation. EASA used the English translation in referencing the documents from AQUILA Aviation GmbH. For enforceability purposes, we will refer to the AQUILA Aviation GmbH service information as the titles appear on the documents.

(ii) Reserved.

(3) For AQUILA—Aviation by Excellence AG service information identified in this AD, contact AQUILA Aviation GmbH, OT Schoenhagen, Flugplatz, D-14959 Trebbin, Germany; phone: +49-(0) 33731-707-0; fax: +49 (0) 33731-707-11; Internet: http://www.aquila-aviation.de/; email: maintenance@aquila-aviation.de.

(4) You may view this service information at the FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on November 5, 2013.
Earl Lawrence,
Manager, Small Airplane Directorate, Aircraft Certification Service.

[FR Doc. 2013-27914 Filed 11-22-13; 8:45 am]

BILLING CODE 4910-13-P